ENVIRONMENTAL PROTECTION AGENCY

[EPA-HQ-OPP-2009-0321; FRL-8818-1]

Dimethyldithiocarbamate Salts; Amendments to Terminate Uses

AGENCY: Environmental Protection Agency (EPA).

ACTION: Notice.

SUMMARY: This notice announces EPA's order for the cancellation and/or amendments to terminate uses, voluntarily requested by the registrant and accepted by the Agency, of products containing the pesticides sodium dimethyldithiocarbamate and/or potassium dimethyldithiocarbamate, pursuant to section 6(f)(1) of the Federal Insecticide, Fungicide, and Rodenticide Act (FIFRA), as amended. This cancellation order follows a September 16, 2009 Federal Register Notice of Receipt of Requests from dimethyldithiocarbamate salts registrants to voluntarily cancel and/or amend to terminate uses of some of their dimethyldithiocarbamate salts product registrations. These are not the last dimethyldithiocarbamate salts products registered for use in the United States. In the September 16, 2009 notice, EPA indicated that it would issue an order implementing the cancellations and amendments to terminate uses, unless the Agency received substantive comments within the 180-day comment period that would merit its further review of these requests, or unless the registrant withdrew its requests within this period. The Agency did not receive any comments on the notice. Further, the registrant did not withdraw its requests. Accordingly, EPA hereby issues in this notice a cancellation order granting the requested product cancellation and amendments to terminate uses. Any distribution, sale, or use of the sodium dimethyldithiocarbamate and potassium dimethyldithiocarbamate products subject to this cancellation order is permitted only in accordance with the terms of this order, including any existing stocks provisions.

DATES: The cancellations are effective April 21, 2010.

FOR FURTHER INFORMATION CONTACT: Eliza Blair, Antimicrobials Division (7510P), Office of Pesticide Programs, Environmental Protection Agency, 1200 Pennsylvania Ave., NW., Washington, DC 20460-0001; telephone number: (703) 308-7279; e-mail address: blair.eliza@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0321. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the amendments to terminate uses, as requested by registrants, of certain materials-preservation, antifoulant, and manufacturing-use sodium dimethyldithiocarbamate salts products registered under section 3 of FIFRA. These registrations are listed in sequence by registration number in Tables 1 and 2 of this unit.

Table 1.—Sodium Dimethyldithiocarbamate Product Cancellation
Registration Number | Product Name | Company
34688-83 | AQUATREAT DCD | Akzo Nobel Surface Chemistry LLC

Table 2.—Dimethyldithiocarbamate Salts Product Registration Amendments to Terminate Uses
EPA Registration No. | Product Name | Active Ingredient | Delete from Label
34688-78 | AQUATREAT SDM | Sodium Dimethyldithiocarbamate | Sapstain
34688-82 | AQUATREAT DNM-80 | Sodium Dimethyldithiocarbamate | All “open pour” applications in water systems - see Sec. II above
1448-70 | BUSAN 85 | Potassium Dimethyldithiocarbamate | Paints, Coatings and Cutting Fluids
1448-381 | DIMET | Potassium Dimethyldithiocarbamate | Paints, Coatings and Cutting Fluids

Table 3 of this unit includes the names and addresses of record for all registrants of the products in Tables 1 and 2 of this unit.

Table 3.—Registrants of Voluntarily Canceled and/or Amended Products
EPA Company Number | Company Name and Address
34688 | Akzo Nobel Surface Chemistry LLC7140, Heritage Village Plaza, Gainesville, VA 20136
1448 | Buckman Laboratories Inc., 1256 North McLean Blvd., Memphis, TN 38108

III. Summary of Public Comments Received and Agency Response to Comments

During the public comment period provided, EPA received no comments in response to the September 16, 2009 Federal Register notice (74 FR 47581 FRL-8432-7) announcing the Agency's receipt of the request for product cancellation and amendments to terminate uses of sodium dimethyldithiocarbamate and potassium dimethyldithiocarbamate.

IV. Cancellation Order

Pursuant to FIFRA section 6(f), EPA hereby approves the requested cancellation and amendments to terminate uses of dimethyldithiocarbamate salts registrations identified in Tables 1 and 2 of Unit II. Accordingly, the Agency orders that the dimethyldithiocarbamate salts product registrations identified in Tables 1 and 2 of Unit II. are hereby canceled and/or amended to terminate the affected uses. Any distribution, sale, or use of existing stocks of the products identified in Tables 1 and 2 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The Agency has authorized the registrants to sell or distribute product under the previously approved labeling for a period of 18 months after approval of the revision, unless other restrictions have been imposed, as in special review actions.

List of Subjects

Environmental protection, Pesticides and pests, Antimicrobials, Dimethyldithiocarbamate salts, sodium dimethyldithiocarbamate, Potassium dimethyldithiocarbamate.

Dated: April 12, 2010.
Joan Harrigan Farrelly,
Director, Antimicrobials Division, Office of Pesticide Programs.

[FR Doc. 2010-8759 Filed 4-20-10; 8:45 am]

BILLING CODE 6560-50-S